DEPARTMENT OF ENERGY

Briefings on Preliminary Findings of 2012 National Electric Transmission Congestion Study

AGENCY: Office of Electricity Delivery and Energy Reliability, Department of Energy (DOE).

ACTION: Notice of upcoming webinars.

SUMMARY: Section 216(a)(1) of the Federal Power Act (FPA) requires the Department of Energy (Department or DOE) to complete a study of electric transmission congestion every three years. DOE previously issued the 2006 and 2009 studies and is currently developing the 2012 study. DOE, as part of the consultation process, will host three webinars in August 2012 to receive input and suggestions concerning the preliminary findings of the study. After the webinars, DOE will release a draft of the study for public comment. After reviewing and considering the comments received, DOE will publish a final version of the study.

DATES: The webinars are open to the public and will be held on three dates in August:

• Tuesday, August 7, from 2:00 to 3:30 p.m. Eastern.

• Thursday, August 16, from 2:00 to 3:30 p.m. Eastern.

• Tuesday, August 21, from 2:00 to 3:30 p.m. Eastern.

ADDRESSES: Those wishing to participate in these webinars should register in advance at this Web site, http://energy.gov/node/378523 or use the link to the registration available at the Department's Congestion Study Web site, http://energy.gov/oe/congestion-study-2012. At these webinars, DOE will set aside time to allow participants to make comments and direct questions to the presenters. Federal law requires DOE to consult with the states in the preparation of the Congestion Study. Accordingly, although stakeholders may participate in any of the webinars, two of these webinars (August 7 and 21) will focus in particular on state officials' comments and concerns. The third Webinar (August 16) will provide an opportunity to discuss the comments and concerns of all stakeholders.

FOR FURTHER INFORMATION CONTACT: David Meyer, DOE Office of Electricity Delivery and Energy Reliability, david.meyer@hq.doe.gov, or call 202-586-1411.

SUPPLEMENTARY INFORMATION: The Energy Policy Act of 2005 (Pub. L. 109-58) (EPAct) added several new provisions to the Federal Power Act (16 U.S.C. 824p) (FPA), including FPA section 216. FPA section 216(a) requires the Secretary of Energy to conduct a study of electric transmission congestion (“National Electric Transmission Congestion Study” or (Congestion Study)) within one year from the date of enactment of EPAct and every three years thereafter. The 2006 and 2009 Congestion Studies reviewed congestion nationwide except for the portion of Texas covered by the Electricity Reliability Council of Texas, to which FPA section 216 does not apply. The 2012 Congestion Study is being developed with a similar scope. FPA section 216(a) requires the congestion study be conducted in consultation with affected States and regional entities identified in FPA section 215.

DOE intends to release a draft version of the 2012 Congestion Study later in 2012 for public comment. After reviewing and considering the comments received, DOE will issue a final version of the study.

Issued in Washington, DC, on July 20, 2012.
Patricia A. Hoffman,
Assistant Secretary, Office of Electricity Delivery and Energy Reliability.

[FR Doc. 2012-18569 Filed 7-27-12; 8:45 am]

BILLING CODE 6450-01-P